DEPARTMENT OF THE INTERIOR

National Park Service

[NPS-WASO-NAGPRA-NPS0033924; PPWOCRADN0-PCU00RP14.R50000]

Notice of Inventory Completion: U.S. Department of the Interior, Bureau of Land Management, Alaska State Office, Anchorage, AK

AGENCY: National Park Service, Interior.

ACTION: Notice.

SUMMARY: The U.S. Department of the Interior, Bureau of Land Management, Alaska State Office (BLM) has completed an inventory of human remains, in consultation with the appropriate Indian Tribes or Native Hawaiian organizations and has determined that there is a cultural affiliation between the human remains and present-day Indian Tribes or Native Hawaiian organizations. Lineal descendants or representatives of any Indian Tribe or Native Hawaiian organization not identified in this notice that wish to request transfer of control of these human remains should submit a written request to the BLM. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the BLM at the address in this notice by June 17, 2022.

FOR FURTHER INFORMATION CONTACT: Robert E. King, Bureau of Land Management, 222 W 7th Avenue, #13, Anchorage, AK 99513, telephone (907) 271-5510, email r2king@blm.gov.

SUPPLEMENTARY INFORMATION: Notice is here given in accordance with the Native American Graves Protection and Repatriation Act (NAGPRA), 25 U.S.C. 3003, of the completion of an inventory of human remains under the control of the U.S. Department of the Interior, Bureau of Land Management, Alaska State Office, Anchorage, AK. The human remains were removed from King Island, AK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the BLM with the help of the University of Alaska Museum of the North professional staff and in consultation with representatives of the King Island Native Community.

History and Description of the Remains

At some unknown date between the late 1940s and the late 1970s, human remains representing, at minimum, one individual were removed from an unknown location on King Island by William Laughlin. During those years, Laughlin was associated, variously, with several universities. The human remains listed in this notice were found at the University of Michigan Museum of Anthropological Archaeology in Ann Arbor. They had been deposited there due to Laughlin's collaboration on archeological work in Alaska with Ted P. Bank II of the University of Michigan. Realizing the human remains had been removed from BLM lands on King Island, in 2014, the University of Michigan transferred the human remains to the Bureau of Land Management in Anchorage, AK. In late 2018, BLM transferred the human remains to the University Museum of the North in Fairbanks, AK, for temporary housing pending repatriation. The human remains, comprising one tooth and multiple cranial fragments, belong to an adult of unknown sex. No known individual was identified. No associated funerary objects are present.

At minimum, the human remains are more than 200 years old. They are determined to be Native American based on their provenience (King Island, AK), condition, and morphology. Archeological and oral traditional information show a relationship of shared group identity between the past and present-day residents on or from King Island. The present-day residents of King Island, AK, are represented by the King Island Native Community of Nome, AK.

Determinations Made by the U.S. Department of the Interior, Bureau of Land Management, Alaska State Office

Officials of the U.S. Department of the Interior, Bureau of Land Management, Alaska State Office have determined that:

• Pursuant to 25 U.S.C. 3001(9), the human remains described in this notice represent the physical remains of one individual of Native American ancestry.

• Pursuant to 25 U.S.C. 3001(2), there is a relationship of shared group identity that can be reasonably traced between the Native American human remains and King Island Native Community.

Additional Requestors and Disposition

Lineal descendants or representatives of any Indian Tribe or Native Hawaiian organization not identified in this notice that wish to request transfer of control of these human remains should submit a written request with information in support of the request to Robert E. King, Bureau of Land Management, 222 W 7th Avenue, #13, Anchorage, AK 99513, telephone (907) 271-5510, email r2king@blm.gov, by June 17, 2022. After that date, if no additional requestors have come forward, transfer of control of the human remains to the King Island Native Community may proceed.

The U.S. Department of the Interior, Bureau of Land Management, Alaska State Office is responsible for notifying the King Island Native Community that this notice has been published.

Dated: May 10, 2022.
Melanie O'Brien,
Manager, National NAGPRA Program.

[FR Doc. 2022-10649 Filed 5-17-22; 8:45 am]

BILLING CODE 4312-52-P